DEPARTMENT OF HEALTH AND HUMAN SERVICES

Health Resources and Services Administration

Recruitment of Clinicians To Become Commissioned Officers; Recruitment of Sites for Assignment of Commissioned Officers

AGENCY: Health Resources and Services Administration (HRSA), HHS.

ACTION: General notice.

SUMMARY: The Health Resources and Services Administration (HRSA) announces that applications will be accepted from clinicians seeking to be hired as commissioned officers in the U.S. Public Health Service and from sites seeking the assistance of these commissioned officers. These commissioned officers will be primary care clinicians who are physicians, dentists, family nurse practitioners, physician assistants, clinical psychologists, and clinical social workers. In support of other Presidential and Department of Health and Human Services Initiatives, a limited number of registered nurses (baccalaureate level) will be considered for placement in ambulatory community-based systems of care. These officers will be assigned by the National Health Service Corps (NHSC) to the neediest Health Professional Shortage Areas throughout the Nation. The NHSC will pay the salaries, moving expenses and benefits for these commissioned officers.

These officers will be part of a mobile cadre of health care professionals who, in addition to the services they will provide to patients at their assigned sites, may be called upon to respond to regional and/or national emergencies. The NHSC will assist the officers in acquiring, maintaining and enhancing emergency response skills. Their initial assignments will be up to three years in duration, after which, should these clinicians choose to stay in the U.S. Public Health Service, they will progress to new assignments.

Eligible Applicants

Clinicians—Applicants must file a U.S. Public Health Service Commissioned Corps application and meet the requirements for such commissioning. For example, all clinicians must be U.S. citizens under 44 years of age (age may be offset by prior active duty Uniformed Service time and/or civil service work experience in a Public Health Service (PHS) agency at a PHS site at a level commensurate with the duties of a commissioned officer), and have served less than 8 years of active duty if the clinician is/was a member of another Uniformed Service. Also, applicants must meet medical requirements, and pass an initial suitability investigation.

In addition, prior to the start of their assignment at an NHSC site, clinicians must meet the following requirements:

(1) Physicians must have completed a residency in Family Practice, Internal Medicine, combined Internal Medicine and Pediatrics, General Psychiatry or Obstetrics and Gynecology and be a diplomate of their respective Allopathic or Osteopathic Specialty Boards;

(2) Dentists must have passed a state or regional dental board exam;

(3) Family Nurse Practitioners must have national certification by the American Nurses Credentialing Center or the American Academy of Nurse Practitioners;

(4) Physician Assistants must have national certification by the National Commission on Certification of Physician Assistants;

(5) Clinical Psychologists must have a doctoral degree in clinical psychology, have a minimum of 1 year of postgraduate supervised clinical experience, have passed the Examination for Professional Practice in Psychology, and be able to practice independently and unsupervised as a clinical psychologist;

(6) Clinical Social Workers must have a masters degree in social work, have passed the Association of Social Work Board's (ASWB) Clinical or Advanced licensing exam prior to July 1, 1998 or the ASWB Clinical exam on or after July 1, 1998, and be able to practice independently and unsupervised as a clinical social worker; and

(7) All clinicians must possess a current, unrestricted, and valid license to practice their health profession in at least one of the 50 States, Washington, D.C., the Commonwealth of Puerto Rico, the U.S. Virgin Islands, or Guam.

Sites—Applicants must be located in a Health Professional Shortage Area (HPSA) and submit a Proposal for Use of a Commissioned Officer 2004. Applicants must also submit a Recruitment and Retention Assistance Application, if not yet approved as an NHSC site. Sites applying for a physician, family nurse practitioner, physician assistant or registered nurse must be located in a primary medical care HPSA; sites applying for a dentist must be located in a dental HPSA; and sites applying for a psychiatrist, a clinical psychologist, or a clinical social worker must be located in a mental health HPSA. All sites to which NHSC clinicians are assigned must accept assignment under Medicare, have appropriate agreements with the applicable State entity to participate in Medicaid and the State Children's Health Insurance Program, see all patients regardless of their ability to pay, and use and post a discounted fee plan. Sites must also understand and accept that these officers will periodically be away from their assigned locations as they train for, or respond to, a regional and/or national health emergency.

Application Requests, Dates and Addresses

Application materials are available for downloading via the Web at http://nhsc.bhpr.hrsa.gov or by calling the National Health Service Corps “Call Center” at 1-800-221-9393.

Clinicians—The original of the completed application must be mailed or delivered no later than March 31, 2004 to: Division of Commissioned Personnel, ATTN: Recruitment and Assignment Branch, 5600 Fishers Lane, Room 4A-18, Rockville, MD 20857-0001. A copy of the completed application must be mailed or delivered no later than September 30, 2004 to: HRSA Commissioned Corps Operations Office, Parklawn Building, Room 13A-22, 5600 Fishers Lane, Rockville, MD 20857. Clinicians are encouraged to submit an application early, as applications will be considered as soon as they are received. Applications delivered or postmarked after the deadline date or sent to a different address will be returned to the applicant and not considered.

Sites—Completed applications must be postmarked or delivered to the NHSC by no later than September 30, 2004. Site applications will be evaluated as soon as they are received at NHSC headquarters. Sites will be deemed qualified based on the quality of the application submitted and the score of the HPSA in which they are located. Preference will be given to NHSC-approved sites in HPSAs with higher scores (the neediest HPSAs). Officers will be assigned to qualified sites on an ongoing basis. Sites are encouraged to apply early so as to have a better chance of acquiring one of the commissioned officers. The number of qualified sites is expected to exceed the limited supply of commissioned officers. Completed site applications should be mailed or delivered to: National Health Service Corps, Parklawn Building, Room 8A-55, 5600 Fishers Lane, Rockville, MD 20857. Applications delivered or postmarked after the deadline date or sent to a different address will be returned to the applicant and not considered.

Dated: February 19, 2004.
Elizabeth M. Duke,
Administrator.

[FR Doc. 04-4204 Filed 2-25-04; 8:45 am]

BILLING CODE 4165-15-P